DEPARTMENT OF AGRICULTURE

Food and Nutrition Service

Agency Information Collection Activities: Proposed Collection: Comment Request: FNS-583, Employment and Training Program Report

AGENCY: Food and Nutrition Service, USDA.

ACTION: Notice.

SUMMARY: In accordance with the Paperwork Reduction Act of 1995, this notice invites the general public and other public agencies to comment on proposed information collection for the FNS-583, Employment and Training Program Report. The proposed collection is an extension of collection currently approved under OMB No. 0584-0339.

DATES: Written comments must be submitted on or before August 7, 2001.

ADDRESSES: Send comments and requests for copies of this information collection to John Knaus, Chief, Program Design Branch, Program Development Division, Food and Nutrition Service, U.S. Department of Agriculture, 3101 Park Center Drive, Alexandria, VA 22302.

Comments are invited on: (a) Whether the proposed collection of information is necessary for the proper performance of the functions of the agency, including whether the information will have practical utility; (b) the accuracy of the agency's estimate of burden of the proposed collection of information, including validity of the methodology and assumptions used; (c) ways to enhance the quality, utility, and clarity of the information to be collected; and (d) ways to minimize the burden of the collection of information on those who are to respond, including through the use of appropriate automated, electronic, mechanical, or other technological collection techniques or other form of information technology.

All responses to this notice will be summarized and included in the request for OMB approval. All comments will also become a matter of public record.

FOR FURTHER INFORMATION CONTACT: John Knaus at (703) 305-2098, or send e-mail to john_knaus@fns.usda.gov via the Internet.

SUPPLEMENTARY INFORMATION: Type of Information Collection Request: Extension of a currently approved collection.

Title of Information Collection: FNS-583, Employment and Training Program Report.

OMB Number: 0584-0339.

Expiration Date: September 30, 2001.

Abstract: Title 7 CFR 273.7(c)(6) requires State agencies to submit quarterly Employment and Training (E&T) Program reports containing monthly figures for participation in the program. The FNS-583 report includes the number of participants newly work registered; work registrants exempted from the E&T Program; participants who volunteered and began an approved E&T component; E&T mandatory participants who began an approved E&T component; number of able-bodied adults without dependents (ABAWDs) exempted from the 3-month food stamp participation limit under each State agency's 15 percent ABAWD exemption allowance; the number of filled and offered (unfilled) workfare slots in waived and unwaived geographic areas of the State; the number of filled and offered education and training slots in waived and unwaived geographic areas of the State; the amount of Federal 100 percent E&T funding spent on workfare slots that meet the requirements of section 6(o)(2)(C) of the Food Stamp Act of 1977, as amended (the Act); and the amount of Federal 100 percent E&T funding spent on education and training slots that meet the requirements of section 6(o)(2)(B) of the Act. The first quarter FNS-583 report includes the number of work registered persons in a State as of October of the new fiscal year. On the fourth quarter FNS-583 report State agencies list the components of their E&T programs and the number of participants in each.

Frequency: The FNS-583 report must be completed and submitted to FNS on a quarterly basis by the 45th day following the end of the quarter.

Affected Public: Individual households and State and local governments.

Estimated Number of Respondents: 4,870,542.

Estimated Number of Responses: 4,870,701.

Estimated Time per Response: .025 hours per individual; 347.17 hours per State agency.

Estimated Total Annual Burden: 195,363 hours.

Dated: May 31, 2001.
George A. Braley,
Acting Administrator, Food and Nutrition Service.

[FR Doc. 01-14452 Filed 6-7-01; 8:45 am]

BILLING CODE 3410-30-U